DEPARTMENT OF EDUCATION

Office of Elementary and Secondary Education—Reading Excellence Program; Notice of Proposed Priorities, Application Requirements, and Selection Criteria for Fiscal Year 2000 and Subsequent Years

AGENCY: Department of Education.

SUMMARY: The Secretary proposes priorities, application requirements, and selection criteria for fiscal year (FY) 2000 and, at the discretion of the Secretary, for subsequent years. The Secretary takes this action to focus Federal financial assistance on an identified need—children in kindergarten to grade three.

DATES: Comments must be received by the Department March 23, 2000.

ADDRESSES: All comments concerning these proposed priorities, application requirements, and selection criteria should be addressed to Joseph Conaty, U.S. Department of Education, 400 Maryland Avenue, SW, Room 5C141, Washington, DC 20202-6200. Comments may be sent through the Internet: comments@ed.gov. You must include the term “Reading Excellence Program” in the subject line of your electronic message.

FOR FURTHER INFORMATION CONTACT: Nancy Rhett, Reading Excellence Program, U.S. Department of Education, 400 Maryland Avenue, SW, Room 5C141, Washington, DC 20202-6200, (202) 260-8228. Fax: (202) 260-8969. Internet: http://www.ed.readingexcellence.gov. Individuals who use the telecommunications device for the deaf (TDD) may call the Federal Information Relay Service (FIRS) at 1-800-877-8339.

If you want to comment on the information collection requirements, please send your comments to the Office of Information and Regulatory Affairs, OMB, room 10235, New Executive Office Building, Washington, DC 20503; Attention: Desk Officer for U.S. Department of Education. You may also send a copy of these comments to the Department of Education representative named in the ADDRESSES section of this preamble.

Individuals with disabilities may obtain this document in an alternative format (e.g., Braille, large print, audiotape, or computer diskette) on request to the contact person listed above.

This notice does not solicit applications. A notice inviting applications under this competition will be published in the Federal Register concurrent with or following the publication of the final priorities, application requirements, and selection criteria.

SUPPLEMENTARY INFORMATION: The Reading Excellence Act (REA), Part C, Title II of the Elementary and Secondary Education Act of 1965 (ESEA), was enacted as Title VIII of the Labor-HHS-ED Appropriations Act of 1999 by Section 101(f) of Public Law 105-277, the Omnibus Appropriations Act of FY 1999. Section 2253 of the REA authorizes a Reading and Literacy Grant Program to State educational agencies (SEAs). Grants are to be awarded on a competitive basis to eligible SEAs, which in turn will make competitive subgrants to local educational agencies (LEAs) for two types of activities: Local Reading Improvement subgrants (LRI) and Tutorial Assistance (TAG) subgrants. Section 2255 and Section 2256 of REA establish in detail the eligibility requirements for LEAs for both subgrant programs. The legislation also requires that each LRI subgrant must be large enough to enable a grant recipient to operate a program for a 2-year period.

Section 2253(c)(2)(C) of the legislation requires that a panel of expert reviewers recommend applications for funding. Panels are generally composed of a minimum of three reviewers. Panel reviewers give each application a numerical score weighted against the selection criteria. Each reviewer also makes a recommendation to fund or not to fund the application.

Note: We will announce the final priorities in a notice in the Federal Register. We will determine the final priorities after considering responses to this notice and other information available to the Department. This notice does not preclude us from proposing or funding additional priorities, subject to meeting applicable rulemaking requirements.

Priorities

A key purpose of the Reading Excellence Act is to help every child to be able to read independently by grade three using research-based approaches to reading instruction. The proposed priorities are necessary to focus available funds on projects that help students in kindergarten through grade three to meet this objective and enable teachers to meet the challenge.

The proposed absolute priority is necessary to ensure that States focus on providing services to the children during the early grades.

Absolute Priority

Under 34 CFR 75.105(c)(3) of EDGAR, the Secretary has the authority to propose an absolute priority. The Secretary proposes that awards under this competition be made only to applications that meet the following absolute priority:

Projects that exclusively fund, at the subgrant level, activities to improve kindergarten through grade three reading instruction and related early childhood, professional development, family literacy, extended learning and tutorial activities.

Competitive Priority

Section 2253(c)(2)(C) of REA requires that priority shall be given to applications from SEAs whose States have modified, are modifying, or provide an assurance that they will modify within 18 months after receiving an REA grant the SEA's elementary school teacher certification requirements. The modification must increase the training and the methods of teaching reading required for certification as an elementary school teacher to reflect scientifically based reading research. However, nothing in the REA shall be construed to establish a national system of teacher certification.

The Secretary proposes to award up to 5 additional points to applicants that meet this priority. Two points will be awarded to applicants that provide an assurance only. To receive the additional three points, the SEA must include detailed plans or implemented changes that describe high quality teacher preparation that reflects scientifically based reading research.

Application Requirements

A discussion of each proposed requirement follows.

A. Eligible LEAS and schools (Sec. 2255 and Sec. 2256)

We propose that to be considered for funding, an application must include a list of all eligible LEAs and the number of eligible schools, and the number of children and teachers in the eligible schools at the time the application is submitted. Successful applicants must provide a list of eligible LEAs and schools at the time that subgrants are awarded.

Rationale

While the legislation clearly defines the requirements for eligibility, it does not require the applicants to identify the eligible LEAs or schools. We propose that each applicant include a list of the eligible LEAs and the number of eligible schools, as well as the number of children and teachers in each eligible school at the time that the application is submitted. This will enable the panelists to determine the likelihood that the requested funding amount will sufficiently fund the number of proposed subgrants for two years and at a level that will make a substantive improvement in reading instruction and student outcomes. Successful applicants will be required to provide an updated list of eligible LEAs and schools to the Department at the time that subgrants are awarded.

B. Funding Recommendations (Sec. 2253(c)(2)(C))

We propose that to be considered for funding, an application must receive a majority recommendation from the panel of reviewers. Any applications not receiving recommendations to be funded from a majority of the review panel, regardless of the numerical score, will not be considered.

Rationale

The legislation requires that the panel reviewers make a recommendation for funding. The requirement that an application must receive a recommendation for funding from a majority of the review panel will ensure that only quality applications are funded.

Selection Criteria

The Secretary proposes that the following selection criteria be used to evaluate applications for new grants under this competition. The maximum score for all of these criteria is 100 points. The maximum score for each criterion or factor under that criterion is indicated in the parentheses. There are not specific point totals for the subcategories within each criterion.

(1) Understanding and commitment to effective reading instruction based on scientifically based reading research. (15 points)

In determining the State's understanding and commitment to effective reading instruction based on scientifically based reading research, the Secretary considers the following factors:

(a) The extent to which the proposed project incorporates a deep understanding of the scientifically based reading research literature and how it applies in their State and local education systems.

(b) The extent to which the scientific literature on reading is implemented in proposed grant activities.

(2) Demonstration of Need. (10 points)

In determining the need for the proposed project, the following factors are included:

Demographic and social data on the target population for this program (children and families) and State efforts and initiatives in reading, including current professional development activities related to the teaching of reading and family literacy, standards and assessments, and other related activities; and their relation, if any, to findings from scientifically based reading research.

(3) Quality of local district and school activities. (35 points)

In determining the quality of the services to be provided by local activities, the Secretary considers the following factors:

(a) How the proposed project would change classroom instruction in schools under Local Reading Improvement subgrants. In particular, what professional development activities would be implemented.

(b) The extent to which the proposed activities support research based classroom reading instruction (including extended learning such as tutoring and summer programs, kindergarten transition, family literacy/involvement, and use of technology).

(c) The extent to which the proposed activities will improve reading instruction for all children, including English language learners and children with special needs.

(d) The extent to which the Tutorial Assistance subgrant activities of the proposed project reflect up-to-date knowledge of reading research and effective practice.

(4) Quality of the plan for State leadership, oversight and evaluation. (25 points)

In determining the quality of the plan for State leadership, oversight and evaluation, the Secretary considers the following factors:

(a) The adequacy of procedures for ensuring success under this grant, including how the State will ensure that school activities will use practices based on scientifically based reading research, especially professional development activities for K-3 teachers.

(b) The adequacy of the management plan to achieve the objectives of the proposed project on time and within budget, including:

—Development of the reading and literacy partnership for overseeing proposed grant activities;

—Guidance provided to eligible districts and schools for developing applications;

—Subgrant processes and criteria; and

—Leadership, technical assistance, and monitoring activities for subgrantees that ensure continuous improvement in reading.

(c) The qualifications, including relevant training and experience, of the key SEA staff responsible for managing the grant activities described above.

(d) The quality of the State's design, including student outcome measures or indicators for grades K-3, subgrant (LRIs and TAGs) and school implementation measures and indicators, a timeline for data collection and reporting, provisions or feedback to districts and identification of a qualified evaluator or inclusion of appropriate criteria.

(e) The extent to which the proposed activities coordinate REA with other State initiatives and programs including how the REA grant will add to current State and local efforts.

(5) Adequacy of Resources. (15 points)

In determining the adequacy of resources, the Secretary considers the following factors:

(a) The average and range of amounts proposed, including the amounts per school/classroom, will provide sufficient resources to accomplish the tasks of Local Reading Improvement and Tutorial Assistance subgrants.

(b) The budget provides sufficient detail and an appropriate level of funding to accomplish the purposes of this grant.

Paperwork Reduction Act of 1995

This notice and the proposed application packet contain information collection requirements. Under the Paperwork Reduction Act of 1995 (44 U.S.C. 3507(d)), the Department of Education has submitted a copy of this notice and application package to the Office of Management and Budget (OMB) for its review.

Collection of Information: Reading Excellence Program

The Reading Excellence Program competitively awards grants to States to improve reading. The SEA will subgrant to LEAs and support activities that are designed to provide children with the skills needed to learn once they enter school, teach every child to read by the end of the third grade, and support teachers and other instructional staff in their efforts to teach reading. Information in the application would include:

(1) A description of the applicant's teacher certification requirements and how they have been or will be modified.

(2) Evidence that the SEA has the demographic and social data of the target population and its impact upon the ability of the local school districts to implement scientifically based reading activities.

(3) The evaluation plan proposed to be used by the State to determine student outcome.

(4) The list of eligible LEAs and schools and the number of teachers and students in those schools.

All information is to be collected once only from each applicant. Annual reporting and record keeping burden for this collection of information is estimated to average 48 hours for each response for 39 respondents, including the time for reviewing instructions, searching existing data sources, gathering and maintaining the data needs, and completing and reviewing the collection of information.

We consider your comments on this proposed collection of information in—

• Deciding whether the proposed collection is necessary for the proper performance of our functions, including whether the information will have practical use:

• Evaluating the accuracy of our estimate of burden of the proposed collection, including the validity of our methodology and assumptions;

• Enhancing the quality, usefulness, and clarity of the information we collect; and

• Minimizing the burden on those who must respond. This includes exploring the use of appropriate automated, electronic, mechanical, or other technological collection techniques or other forms of information technology; e.g., permitting electronic submission of response.

OMB is required to make a decision concerning the collection of information contained in this notice of proposed eligibility and selection criteria between 30 and 60 days after publication of this document in the Federal Register. Therefore to ensure that OMB gives your comments full consideration, it is important that OMB receives the comments within 30 days of publication. This does not affect the deadline for your comments to us on the notice of proposed eligibility and selection criteria.

Intergovernmental Review

This program is subject to the requirements of Executive Order 12372 and the regulations in 34 CFR Part 79. The objective of the executive order is to foster an intergovernmental partnership and a strengthened federalism by relying on process developed by State and local government for coordination and review of proposed Federal assistance.

In accordance with this order, this document is intended to provide early notification of the Department's specific plans and actions for this program.

Invitation to Comment

We invite you to submit comments regarding the rules proposed in this notice. To ensure that your comments have the maximum effect in developing the Secretary's final notice of priorities, application requirements, and selection criteria we urge you to identify clearly the specific section of this notice that each of your comments addresses and to arrange your comments in the same order as the sections appear in the notice.

All comments submitted in response to this notice will be available for public inspection, during and after the comment period, in Room 5C141, 400 Maryland Avenue, SW, Washington, DC, between the hours of 8:30 a.m. and 4:00 p.m., Eastern time, Monday through Friday of each week except Federal holidays.

On request, the Department supplies an appropriate aid, such as a reader or print magnifier, to an individual with a disability that needs assistance to review the comments. An individual with a disability may call (202) 205-8113 or (202) 260-9895. An individual who uses a TDD may call the Federal Information Relay Service (FIRS) at 1-800-877-8339.

Program Authority: 20 U.S.C. 6661 et seq.

Electronic Access to This Document:

You may view this document, as well as all other Department of Education documents published in the Federal Register, in text or Adobe Portable Document Format (PDF) on the Internet at either of the following sites: http://ocfo.ed.gov.fedreg.htm; http://www.ed.gov/news.html.To use the PDF file you must have the Adobe Acrobat Reader Program with Search, which is available free at either of the preceding sites. If you have questions about using PDF, call the U.S. Government Printing Office (GPO), toll free at 1-888-293-6498; or in the Washington, D.C., area at (202) 512-1530.

Note: The official version of this document is the document published in the Federal Register. Free Internet access to the official edition of the Federal Register and the Code of Federal Regulations is available on GPO Access at: http://access.gpo.gov/nara/index.html.

Catalogue of Federal Assistance Number: 84.338

Dated: February 15, 2000.
Michael Cohen,
Assistant Secretary for Elementary and Secondary Education.

[FR Doc. 00-4084 Filed 2-18-00; 8:45 am]

BILLING CODE 4000-01-U